DEPARTMENT OF HOMELAND SECURITY

Federal Emergency Management Agency

44 CFR Part 67

[Docket No. FEMA-B-7781]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents and others to calculate appropriate flood insurance premium rates for new buildings and the contents in those buildings.

DATES: Comments are to be submitted on or before August 14, 2008.

ADDRESSES: The corresponding preliminary Flood Insurance Rate Map (FIRM) for the proposed BFEs for each community are available for inspection at the community's map repository. The respective addresses are listed in the table below.

You may submit comments, identified by Docket No. FEMA-B-7781, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151, or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Leon County, Florida, and Incorporated Areas
East Drainage Ditch | Approximately 400 feet upstream of South Blair Stone Road | None | +90 | City of Tallahassee.
| Approximately 1,000 feet upstream of Paul Russell Road | None | +94
Indianhead Branch 2 | Just downstream of Putnam Drive | +59 | +63 | City of Tallahassee.
| Just upstream of East Magnolia Drive | None | +67
Northeast Drainage Ditch Tributary 1 | Approximately 200 feet upstream of the confluence of Northeast Drainage Ditch | +90 | +91 | City of Tallahassee.
| Just downstream of Lonnbladh Road | +90 | +95
Northeast Drainage Ditch Tributary 2 | Approximately 450 feet upstream of the confluence of Northeast Drainage Ditch | +65 | +60 | City of Tallahassee.
| Just upstream of U.S. Route 319 | +93 | +95
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Tallahassee
Maps are available for inspection at Tallahassee City Hall, 300 South Adams Street, Tallahassee, FL.
Bannock County, Idaho, and Incorporated Areas
Rapid Creek | Just upstream of Interstate Highway 15 | +4544 | +4541 | Unincorporated Areas of Bannock County, City of Inkom.
| At Private Road approximately 400 feet downstream of Hoot Owl Road | +5062 | +5060
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Inkom
Maps are available for inspection at 365 North Rapid Creek Road, Inkom, ID 83245.
Unincorporated Areas of Bannock County
Maps are available for inspection at 130 North 6th Avenue, Suite C, Pocatello, ID 83201.
Butler County, Kansas, and Incorporated Areas
Walnut River | Approximately 850 feet downstream of SW 220th Street | None | *1181 | City of Douglas.
| Approximately 1000 feet upstream of SW 210th Street | None | *1190
Whitewater River | Approximately 1000 feet upstream of State Highway 254 | None | *1254 | City of Towanda.
| Approximately 1320 feet upstream of State Highway 254 | None | *1264
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Douglass
Maps are available for inspection at City Hall, 322 S. Forrest, Douglass, KS 67039.
City of Towanda
Maps are available for inspection at City Hall, 110 S. 3rd Street, Towanda, KS 67114.
Casey County, Kentucky, and Incorporated Areas
Green River | Approximately 4300 feet downstream of confluence with Highway 49 Tributary | None | +793 | Unincorporated Areas of Casey County.
| Approximately 900 feet upstream of KY-817 | None | +808
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Casey County
Maps are available for inspection at 625 Campbellsville Street, Liberty, KY 42539.
Middlesex County, Massachusetts, and Incorporated Areas
Aberjona River | At outlet to Lower Mystic Lake | +8 | +7 | Town of Arlington, City of Medford, City of Woburn, Town of Reading, Town of Winchester.
| At divergence of Aberjona River—North Spur | +84 | +83
Aberjona River—North Spur | At confluence with Aberjona River | +62 | +64 | Town of Reading, City of Woburn, Town of Wilmington.
| Approximately 300 feet upstream of Willow Street | +84 | +83
Alewife Brook (Little River) | At confluence with Mystic River | +6 | +7 | Town of Arlington, City of Somerville.
| Approximately 320 feet downstream of Henderson Street | +6 | +7
Assabet River | Entire reach within Town of Hudson | None | +181 | Town of Hudson.
Assabet River | At upstream side of Interstate 495 | None | +213 | City of Marlborough.
| Approximately 800 feet upstream of Interstate 495 | None | +214
Beaver Brook 1 | Approximately 4,040 feet upstream of Beaver Street | None | +54 | Town of Belmont.
| Approximately 5,765 feet upstream of Beaver Street | None | +75
Beaver Brook 3 | Approximately 1,000 feet downstream of Pleasant Street | +75 | +71 | Town of Dracut.
| At Pleasant Street | +75 | +71
Butter Brook | Approximately 1,600 feet upstream of Main Street | +173 | +176 | Town of Westford.
| Approximately 2,100 feet downstream of Old Road | +175 | +176
Concord River | Approximately 450 feet upstream of Interstate Route 495 East | +106 | +104 | Town of Billerica, Town of Chelmsford, Town of Tewksbury.
| Approximately 2,280 feet upstream of Interstate Route 495 East | +106 | +105
Cummings Brook | At confluence with Shakers Glen Brook | +46 | +47 | City of Woburn.
| Approximately 130 feet upstream of Winn Street | +101 | +102
Fort Meadow Brook | At confluence with Assabet River | None | +181 | Town of Hudson.
| Approximately 100 feet downstream of Main Street | +180 | +181
Fort Meadow Reservoir | Entire reach within City of Marlborough | None | +262 | City of Marlborough.
Hales Brook | Approximately 1,350 feet east of Industrial Avenue East and Lowell Connector intersection—Backwater area | +103 | +102 | City of Lowell.
| At confluence with River Meadow Brook | +103 | +102
| Approximately 1,500 feet upstream of Industrial Avenue East | +103 | +102
Hales Brook | Approximately 1,350 feet east of Industrial Avenue East and Lowell Connector intersection—Backwater area | None | +102 | Town of Chelmsford.
| Approximately 2,200 feet downstream of Interstate Route 495 | +101 | +102
| Approximately 200 feet downstream of Interstate Route 495 | +101 | +102
Halls Brook | At confluence with Aberjona River | +50 | +54 | City of Woburn.
| Approximately 220 feet upstream of Merrimac Street | +106 | +95
Horn Pond Brook/Fowle Brook | At confluence with Aberjona River | +20 | +23 | City of Woburn, Town of Winchester.
| At confluence with Shakers Glen Brook | +46 | +47
Little Brook | At confluence with Cummings Brook | +68 | +67 | City of Woburn.
| Approximately 400 feet upstream of Bedford Road | +103 | +95
Lubbers Brook | Approximately 1,800 feet downstream of Cook Street | None | +102 | Town of Wilmington.
| Approximately 3,090 feet upstream of Cook Street | None | +103
Marginal Brook | Entire reach within Town of Tewksbury | None | +126 | Town of Tewksbury.
Merrimack River | Approximately 6,000 feet upstream of County boundary | +55 | +57 | Town of Chelmsford, Town of Dracut, Town of Tewksbury, Town of Tyngsborough.
| Approximately 10,730 feet downstream of Tyngsborough Bridge | +103 | +104
Mill Brook | Approximately 315 feet downstream of confluence with Tributary to Mill Brook | None | +119 | Town of Bedford.
| Approximately 315 feet upstream of confluence with Tributary to Mill Brook | None | +119
Mill Brook 3 | Upstream side of Mystic Valley Parkway | +11 | +7 | Town of Arlington, Town of Lexington.
| Approximately 70 feet upstream of Boston and Maine Railroad | +173 | +168
Mystic River | Upstream side of Mystic Valley Parkway—Route 16 | +4 | +5 | Town of Arlington, City of Medford.
| At outlet to Lower Mystic Lake | +8 | +7
Nonesuch Pond | Entire reach within Town of Natick | None | +174 | Town of Natick.
North Lexington Brook | Approximately 400 feet upstream of confluence with Shawsheen River | +115 | +116 | Town of Lexington.
| At Boston and Maine Railroad | +116 | +117
Pages Brook | Approximately 250 feet northwest of Larsen Lane and Outlook Road intersection—Backwater area | None | +119 | Town of Billerica.
Peppermint Brook | At confluence with Beaver Brook 3 | +75 | +71 | Town of Dracut.
| Approximately 50 feet downstream of State Route 113 | +75 | +74
Richardson Brook | At confluence with Merrimack River | +59 | +57 | Town of Dracut.
| Downstream side of State Route 10 Dam | +59 | +58
Schneider Brook | At confluence with Aberjona River | +42 | +45 | City of Woburn.
| Approximately 880 feet upstream of Forbes Street | +83 | +84
Shakers Glen Brook | At confluence with Fowle Brook | +46 | +47 | City of Woburn.
| At Russell Street | +63 | +62
Shawsheen River | At upstream side of Boston and Maine Railroad | +90 | +91 | Town of Wilmington.
| Approximately 1.9 miles downstream of Boston Road (State Road 3A) | +93 | +97
Shawsheen River | Approximately 2,125 feet upstream of Bridge Street | +116 | +113 | Town of Lexington.
| Approximately 300 feet upstream of Summer Street | None | +116
Snake Brook | Approximately 2,420 feet downstream of Main Street | None | +138 | Town of Natick.
| Approximately 2,760 feet downstream of Commonwealth Avenue | None | +147
Sweetwater Brook | At confluence with Aberjona River | +35 | +36 | City of Woburn, Town of Stoneham.
| Approximately 120 feet upstream of Lindenwood Road | +65 | +63
Town Line Brook | Approximately 370 feet upstream of Lynn Street | None | +8 | City of Everett.
| Approximately 1,650 feet upstream of Lynn Street | None | +8
| Approximately 1,850 feet downstream of County boundary | None | +8
Trull Brook | At confluence with Merrimack River | +55 | +57 | Town of Tewksbury.
| Approximately 100 feet upstream of Golf Course Bridge | +55 | +57
Valley Pond | Entire shoreline within community | None | +175 | Town of Weston.
Wellington Brook | Approximately 600 feet upstream of confluence with Alewife Brook (Little River) | +8 | +7 | City of Cambridge, Town of Belmont.
| Approximately 1,700 feet upstream of Concord Avenue | +22 | +20
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Cambridge
Maps are available for inspection at City of Cambridge Department of Public Works, 795 Massachusetts Avenue, Cambridge, MA.
City of Everett
Maps are available for inspection at Everett City Hall, Office of the City Engineer, 484 Broadway Street, Room 26, Everett, MA.
City of Lowell
Maps are available for inspection at Lowell City Hall, 375 Merrimack Street, Lowell, MA.
City of Marlborough
Maps are available for inspection at Marlborough City Hall, Office of Inspectional Services, 140 Main Street, Marlborough, MA.
City of Medford
Maps are available for inspection at Medford City Hall, Engineering Division, 85 George P. Hassett Drive, Room 300, Medford, MA.
City of Somerville
Maps are available for inspection at Somerville City Hall, Public Works Department, 93 Highland Avenue, Somerville, MA.
City of Woburn
Maps are available for inspection at Woburn City Hall, Engineering Department, 10 Common Street, Woburn, MA.
Town of Arlington
Maps are available for inspection at Arlington Town Hall, 730 Massachusetts Avenue, Arlington, MA.
Town of Bedford
Maps are available for inspection at Bedford Town Hall, 10 Mudge Way, Bedford, MA.
Town of Belmont
Maps are available for inspection at Town of Belmont Community Development Office, 19 Moore Street, Belmont, MA.
Town of Billerica
Maps are available for inspection at Town of Billerica Building Department, 365 Boston Road, Billerica, MA.
Town of Chelmsford
Maps are available for inspection at Town of Chelmsford Public Works Department, 50 Billerica Road, Chelmsford, MA.
Town of Dracut
Maps are available for inspection at Dracut Town Hall, 11 Springpark Avenue, Dracut, MA.
Town of Hudson
Maps are available for inspection at Town of Hudson Inspections Department, 78 Main Street, Hudson, MA.
Town of Lexington
Maps are available for inspection at Town of Lexington Engineering Department, 1625 Massachusetts Avenue, Lexington, MA.
Town of Natick
Maps are available for inspection at Natick Town Hall, 13 East Central Street, Natick, MA.
Town of Reading
Maps are available for inspection at Reading Town Hall, Building Department, 16 Lowell Street, Reading, MA.
Town of Stoneham
Maps are available for inspection at Town of Stoneham Department of Public Works, 16 Pine Street, Stoneham, MA.
Town of Tewksbury
Maps are available for inspection at Tewksbury Town Hall, Building Department, 1009 Main Street, Tewksbury, MA.
Town of Tyngsborough
Maps are available for inspection at Tyngsborough Town Hall, Building Department, 25 Bryants Lane, Tyngsborough, MA.
Town of Westford
Maps are available for inspection at Westford Town Hall, Building Department, 55 Main Street, Westford, MA.
Town of Weston
Maps are available for inspection at Weston Town Hall, 11 Town House Road, Weston, MA.
Town of Wilmington
Maps are available for inspection at Wilmington Town Hall, 121 Glen Road, Wilmington, MA.
Town of Winchester
Maps are available for inspection at Town of Winchester Engineer's Office, 71 Mt. Vernon Street, Winchester, MA.

Flooding source(s) | Location of referenced elevation ** | * Elevation in meters (NGVD) + Elevation in meters (NAVD) # Depth in meters above ground ‸ Elevation in meters (MSL): Effective | * Elevation in meters (NGVD) + Elevation in meters (NAVD) # Depth in meters above ground ‸ Elevation in meters (MSL): Modified | Communities affected
Commonwealth of Puerto Rico County, Puerto Rico and Incorporated Areas
Rio Bairoa | At confluence with Rio Grande de Loiza Reach 2 | ‸ 51.3 | ‸ 52 | Commonwealth of Puerto Rico.
| Approximately 290 meters upstream of Calle Gardena | ‸ 90.3 | ‸ 90.1
Rio Caguitas | At confluence of Rio Grande de Loiza Reach 2 | ‸ 52.1 | ‸ 52 | Commonwealth of Puerto Rico.
| Approximately 1,830 meters upstream of Calle Canaboncito | None | ‸ 81.2
Rio Grande de Loiza Reach 2 | Approximately 3,640 meters downstream of PR Highway 30 | None | ‸ 50.8 | Commonwealth of Puerto Rico.
| Approximately 2,700 meters upstream of Carretera 183 | None | ‸ 96.2
Rio Gurabo | At confluence with Rio Grande de Loiza Reach 2 | ‸ 49.6 | ‸ 51.3 | Commonwealth of Puerto Rico.
| Approximately 1,800 meters upstream of Carretera 31 | None | ‸ 71.4
Rio Turabo | At confluence with Rio Grande de Loiza Reach 2 | ‸ 59.1 | ‸ 59.7 | Commonwealth of Puerto Rico.
| Approximately 7,500 meters upstream of Calle Georgetti | None | ‸ 105.8
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Commonwealth of Puerto Rico
Maps are available for inspection at Puerto Rico Planning Board, North Building, 16th Floor, De Diego Avenue, Stop 22, Santurce, San Juan, PR.

Flooding source(s) | Location of referenced elevation ** | * Elevation in feet (NGVD) + Elevation in feet (NAVD) # Depth in feet above ground: Effective | * Elevation in feet (NGVD) + Elevation in feet (NAVD) # Depth in feet above ground: Modified | Communities affected
Minnehaha County, South Dakota, and Incorporated Areas
Big Sioux River | Approximately 7120 feet downstream from South Dakota Highway 42 | None | +1286 | Unincorporated Areas of Minnehaha County.
| Approximately 1000 feet downstream from South Dakota Highway 42 | None | +1289
Big Sioux River | Approximately 2500 feet downstream from Burlington Northern Santa Fe Railroad | +1306 | +1305 | City of Sioux Falls, Unincorporated Areas of Minnehaha County.
| Approximately 1000 feet downstream from West 60th Street | +1432 | +1431
Cherry Creek | Approximately 70 feet downstream from South Sertoma Avenue | +1435 | +1434 | City of Sioux Falls, Unincorporated Areas of Minnehaha County.
| Approximately 1000 feet upstream from East 266th Street | None | +1458
Skunk Creek | 2750 feet downstream from Interstate 29 | +1417 | +1422 | City of Sioux Falls, Unincorporated Areas of Minnehaha County.
| Approximately 50 feet downstream from South 467th Avenue | None | +1459
Willow Creek | Approximately 1130 feet upstream from North Lamesa Drive | None | +1438 | Unincorporated Areas of Minnehaha County, City of Sioux Falls.
| Approximately 1300 feet upstream from Highway 38 | None | +1475
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Sioux Falls
Maps are available for inspection at 224 West 9th Street, P.O. Box 7402, Sioux Falls, SD 57117-7402.
Unincorporated Areas of Minnehaha County
Maps are available for inspection at County Administration Building, 415 N. Dakota Avenue, Sioux Falls, SD 57106.

(Catalog of Federal Domestic Assistance No. 97.022, “Flood Insurance.”)

Dated: May 9, 2008.
Michael K. Buckley,
Deputy Assistant Administrator for Mitigation, Department of Homeland Security, Federal Emergency Management Agency.

[FR Doc. E8-10933 Filed 5-15-08; 8:45 am]

BILLING CODE 9110-12-P